DEPARTMENT OF COMMERCE

International Trade Administration

[C-570-938]

Citric Acid and Certain Citrate Salts From the People's Republic of China: Notice of Partial Rescission of Countervailing Duty Administrative Review

AGENCY: Import Administration, International Trade Administration, Department of Commerce.

DATES: Effective Date: September 5, 2013.

FOR FURTHER INFORMATION CONTACT: Patricia M. Tran or Raquel Silva, AD/CVD Operations, Office 8, Import Administration, International Trade Administration, U.S. Department of Commerce, 14th Street and Constitution Avenue NW., Washington, DC 20230; telephone: (202) 482-1503 or (202) 482-6475, respectively.

SUPPLEMENTARY INFORMATION:

Background

On May 1, 2013, the Department of Commerce (the Department) published a notice of opportunity to request an administrative review of the countervailing duty (CVD) order on citric acid and certain citrate salts from the People's Republic of China (PRC) covering the period of January 1, 2012, through December 31, 2012.¹ The Department received a timely request for a CVD administrative review from Petitioners ² for RZBC Group Co., Ltd., RZBC Co., Ltd., RZBC Import & Export Co., Ltd., and RZBC (Juxian) Co., Ltd. (collectively, RZBC). The Department also received timely requests from RZBC and Laiwu Taihe Biochemistry Co., Ltd. (Laiwu) for a CVD administrative review of themselves. On June 28, 2013, the Department published the notice of initiation of this CVD administrative review with respect to the two companies.³ On July 31, 2013, Laiwu withdrew its request for an administrative review.

¹ See Antidumping or Countervailing Duty Order, Finding, or Suspended Investigation; Opportunity To Request Administrative Review, 78 FR 25423 (May 1, 2013).

² Archer Daniels Midland Company, Cargill, Incorporated, and Tate & Lyle Ingredients Americas LLC (collectively, Petitioners).

³ See Initiation of Antidumping and Countervailing Duty Administrative Reviews and Request for Revocation in Part, 78 FR 38924 (June 28, 2013).

Rescission, in Part

Pursuant to 19 CFR 351.213(d)(1), the Secretary will rescind an administrative review, in whole or in part, if a party that requested the review withdraws the request within 90 days of the date of publication of the notice of initiation of the requested review. Laiwu's withdrawal was submitted within the 90-day period and, thus, is timely. Because Laiwu's withdrawal request was timely and no other party requested a review of Laiwu, the Department is rescinding this review with respect to Laiwu, in accordance with 19 CFR 351.213(d)(1). The Department will continue to conduct the CVD administrative review of RZBC.

Assessment

The Department will instruct U.S. Customs and Border Protection (CBP) to assess CVDs on all appropriate entries. Laiwu shall be assessed CVDs at rates equal to the cash deposit of estimated CVDs required at the time of entry, or withdrawal from warehouse, for consumption, during the period January 1, 2012, through December 31, 2012, in accordance with 19 CFR 351.212(c)(1)(i).

The Department intends to issue appropriate assessment instructions directly to CBP 15 days after publication of this notice.

Notification Regarding Administrative Protective Orders

This notice serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: August 29, 2013.
Gary Taverman,
Senior Advisor for Antidumping and Countervailing Duty Operations.

[FR Doc. 2013-21645 Filed 9-4-13; 8:45 am]

BILLING CODE 3510-DS-P